AGENCY FOR INTERNATIONAL DEVELOPMENT

Privacy Act of 1974; System of Records

AGENCY: Agency for International for Development (USAID).

ACTION: Notice of modified privacy act system of records.

SUMMARY: The United States Agency for International Development (USAID) proposes to modify a system of records titled, “USAID-19, Travel and Transportation Records,” last published on December 30, 2014. USAID is modifying its SORN category of records as Social Security Numbers are no longer collected. This system supports End-to-End Travel (E2E) Solutions, which is an end-to-end web-based travel and expense management tool for paperless travel authorization/voucher routing, calculation of per diem, obligation of funds, receipts imaging, and voucher disbursements in accordance with the Federal Travel Regulation (FTR) and Agency policies in the Automated Directive System (ADS). The E2E system is used to create and track travel authorizations, travel vouchers and reimbursements, book on-line travel reservations, obtain electronic approvals, and create and submit expense reports for senior-level Agency officials. The information collected from individuals facilitates official Agency travel, such as issuing travel tickets, approving hotels and per diem rates, and confirming that travel is official. The personally identifiable information (PII) data elements are collected and input into the E2E system, Integrated Logistics Management System (ILMS), and Phoenix Financial Management System in support of these USAID business functions relating to USAID personnel travel.

DATES: Submit comments on or before 13 January 2022. This modified system of records will be effective 13 January 2022 upon publication. The Routine Uses are effective at the close of the comment period.

ADDRESSES: You may submit comments:

Electronic

• Federal eRulemaking Portal: http://www.regulations.gov. Follow the instructions on the website for submitting comments.

• Email: Privacy@usaid.gov.

Paper

• Fax: 202-916-4946.

• Mail: Chief Privacy Officer, United States Agency for International Development, 1300 Pennsylvania Avenue NW, Washington, DC 20523.

FOR FURTHER INFORMATION CONTACT: Ms. Celida A. Malone, USAID Privacy Program at United States Agency for International Development, Bureau for Management, Office of the Chief Information Officer, Information Assurance Division: ATTN: USAID Privacy Program, 1300 Pennsylvania Avenue NW, Washington, DC 20523, or by phone number at 202-916-4605.

SUPPLEMENTARY INFORMATION: USAID is modifying its SORN as Social Security Numbers are no longer collected. This system supports End-to-End Travel (E2E) Solutions, which is an end-to-end web-based travel and expense management tool that allows for paperless travel authorization/voucher routing, calculation of per diem, obligation of funds, receipts imaging, and voucher disbursements in accordance with the Federal Travel Regulation (FTR) and Agency policies in the Automated Directive System (ADS). The E2E system is used to create and track travel authorizations, travel vouchers and reimbursements, book on-line travel reservations, obtain electronic approvals, and create and submit expense reports for senior-level Agency officials. The information collected from individuals facilitates official Agency travel, such as issuing travel tickets, approving hotels and per diem rates, and confirming that travel is official. The PII data elements are collected and input into the E2E system, Integrated Logistics Management System (ILMS), and Phoenix Financial Management System in support of these USAID business functions relating to USAID personnel travel.

Dated: July 9, 2021.
Mark Joseph Johnson.
Chief Privacy Officer, United States Agency for International Development.

SYSTEM NAME AND NUMBER:

Travel and Transportation Records, USAID-19.

SECURITY CLASSIFICATION:

Controlled Unclassified Information.

SYSTEM LOCATION:

United States Agency for International Development (USAID), 1300 Pennsylvania Avenue NW, USAID Annex, Room 10.6.4-F, Washington, DC 20523; CW Government Travel, Inc. (CWTSatoTravel), 4300 Wilson Blvd., Suite 500, Arlington, VA 22203-4167; U.S. Department of State COOP Beltsville (BIMC), 8101 Odell Road, Floor/Room 173, Beltsville, MD 20705; and other USAID offices in the United States and throughout the world.

SYSTEM MANAGER(S):

Chief, Travel and Transportation Division, Office of Management Services, Bureau for Management, United States Agency for International Development, 1300 Pennsylvania Avenue NW, USAID Annex, Room 10.6.4-F, Washington, DC 20523-2120. Email: TravelandTransportation-helpdesk@usaid.gov.

AUTHORITY FOR MAINTENANCE OF THE SYSTEM:

5 U.S.C. 301, Departmental Regulations; 5 U.S.C. Ch. 57, Travel, Transportation, and Subsistence; 22 U.S.C. Ch. 32, Foreign Assistance, Subchapter 1, International Development; 22 U.S.C. 4081, Travel and Related Expenses; and implementing Federal Travel Regulations (41 CFR Chapters 300-304).

PURPOSE(S) OF THE SYSTEM:

Records in this system may be used to: (1) Manage the centralized USAID relocation and travel of USAID employees and their dependents; (2) facilitate move requests of USAID employees and their dependents; (3) manage worldwide logistics services and integrated support for the transportation of the effects of USAID employees and their dependents; (4) ensure fiscal accountability in transporting the effects of USAID employees and their dependents; (5) facilitate passport issuance and compliance; and (6) assist in substantiating a claim for missing or damaged household effects.

CATEGORIES OF INDIVIDUALS COVERED BY THE SYSTEM:

This system encompasses all individuals (1) whose travel is paid for by USAID; (2) for whom the transportation of effects is paid by USAID; or (3) who are USAID personnel and dependents who travel on USAID business with United States diplomatic passports for the purposes of providing travel and the transportation of household goods for employees of USAID and its Missions around the world, as well as travel to interviews for certain applicants for employment with USAID.

CATEGORIES OF RECORDS IN THE SYSTEM:

Records include name, date of birth, place of birth, sex or gender, age, citizenship, home address, personal cell phone number, personal email address, work phone number, work email address, passport number or green card number (optional), credit card number, Phoenix vendor identification; correspondence, itineraries, government transportation requests, card files pertaining to passports, baggage declarations, passports and records of applications for visas, arrival and departure notices, medical requirements and vaccination status for employees traveling, and record of clearances prior to departure from the United States or posts abroad.

RECORD SOURCE CATEGORIES:

Sources of records are from the individual whose travel and transportation of effects are paid by USAID and its Missions, and USAID officials and employees involved in the travel and transportation of household goods.

ROUTINE USES OF RECORDS MAINTAINED IN THE SYSTEM, INCLUDING CATEGORIES OF USERS AND PURPOSES OF SUCH USES:

In addition to those disclosures generally permitted under 5 U.S.C. 552a(b), all or a portion of the records contained in this system of records may be disclosed outside USAID as a routine use pursuant to 5 U.S.C. 552a(b)(3) as follows:

(1) To the U.S. Department of the Treasury for the purposes of payment of claims.

(2) To commercial travel, transportation and shipping companies and agents for the purposes of making travel and transportation arrangements.

(3) To U.S. Dispatch Agents for the purposes of arranging shipment and clearance of effects.

(4) To the General Services Administration and the Office of Management and Budget for the purposes of periodic reporting required by statutes, regulations, and/or Executive Order. Information provided is in the form of listings, reports, and records of all transportation and travel-related transactions, including refunds and adjustments, by the contractor, to enable audits of transportation and travel-related charges to the Government.

(5) To a court, magistrate, or other administrative body in the course of presenting evidence, including disclosures to counsel or witnesses in the course of civil discovery, litigation, or settlement negotiations, or in connection with criminal proceedings, when USAID is a party to the proceeding or has a significant interest in the proceeding, to the extent that the information is determined to be relevant and necessary.

(6) To the Department of Justice or other appropriate United States Government Agency when the records are arguably relevant to a proceeding in a court or other tribunal in which USAID or a USAID official in his or her official capacity is a party or has an interest, or when the litigation is likely to affect USAID.

(7) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(8) To the Department of State and its posts abroad for the purpose of transmission of information between organizational units of USAID, or for purposes related to the responsibilities of the Department of State in conducting United States foreign policy or protecting United States citizens, such as the assignment of employees to positions abroad, the reporting of accidents abroad, ensuring fiscal accountability in transporting the effects of personnel stationed at Embassies, evacuation of employees and dependents, and other purposes for which officers and employees of the Department of State have a need for the records in the performance of their duties.

(9) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(10) To shipping contractors limited information is provided, such as delivery address and telephone number, for the purposes of providing shipping services.

(11) To federal agencies with which USAID has entered into an agreement to provide services to assist USAID in carrying out its functions under the Foreign Assistance Act of 1961, as amended. Such disclosures would be for the purpose of: Transmission of information between organizational units of USAID; providing to the original employing agency information concerning the services of its employee while under the supervision of USAID, including performance evaluations, reports of conduct, awards and commendations, and information normally obtained in the course of personnel administration and employee supervision; or providing other information directly related to the purposes of the inter-agency agreement as set forth therein, and necessary and relevant to its implementation.

(12) To appropriate officials and employees of a federal agency or entity when the information is relevant to a decision concerning the: Hiring, appointment, or retention of an employee; assignment, detail or deployment of an employee; issuance, renewal, suspension, or revocation of a security clearance; execution of a security or suitability investigation; letting of a contract; or issuance of a grant or benefit.

(13) To the National Archives and Records Administration (NARA) for the purposes of records management inspections conducted under the authority of 44 U.S.C. 2904 and 2906.

(14) To a former employee of USAID for purposes of responding to an official inquiry by a federal, state, or local government entity or professional licensing authority, in accordance with applicable Agency regulations; or facilitating communications with a former employee that may be necessary for personnel-related or other official purposes where the Agency requires information and/or consultation assistance from the former employee regarding a matter within that person's former area of responsibility.

(15) To appropriate agencies, entities, and persons when: (a) USAID suspects or has confirmed that there has been a breach of the system of records; (b) USAID has determined that, as a result of the suspected or confirmed breach, there is a risk of harm to individuals, USAID (including its information systems, programs, and operations), the Federal Government, or national security; and (c) the disclosure made to such agencies, entities, and persons is reasonably necessary to assist in connection with USAID's efforts to respond to the suspected or confirmed breach or to prevent, minimize, or remedy such harm.

(16) To another federal department or agency or federal entity, when USAID determines information from this system of records is reasonably necessary to assist the recipient department or agency or entity in: (a) Responding to a suspected or confirmed breach; or (b) preventing, minimizing, or remedying the risk of harm to individuals, the recipient agency or entity (including its information systems, programs and operations), the Federal Government, or national security, that might result from a suspected or confirmed breach.

(17) To the Office of Management and Budget in connection with review of private relief legislation, as set forth in OMB Circular No. A-19, at any stage of the legislative coordination and clearance process as set forth in that Circular.

POLICIES AND PRACTICES FOR STORAGE OF RECORDS:

Records in this system are stored on paper and/or electronic form, and are maintained in locked cabinets and/or user-authenticated, password-protected systems. Records that contain national security information and are classified are stored in accordance with applicable Executive Orders, statutes, and Agency implementing regulations.

POLICIES AND PRACTICES FOR RETRIEVAL OF RECORDS:

Records in this system are retrieved by the names of the individuals.

POLICIES AND PRACTICES FOR RETENTION AND DISPOSAL OF RECORDS:

Records are retained and disposed of in accordance with disposition schedules approved by USAID and NARA General Records Schedule 9 for Travel and Transportation Records, and General Records Schedule 20 for Electronic Records shall apply. The data will be used, processed, and then stored. Data will be stored for six years and three months, which is specified by NARA.

ADMINISTRATIVE, TECHNICAL, AND PHYSICAL SAFEGUARDS:

USAID safeguards records in this system according to applicable rules and policies, including all applicable USAID Automated Directive System operational policies. USAID has implemented controls to minimize the risk of compromising the information that is being stored. Access to the system and its records is limited to those individuals who have a need to know the information for performance of their official duties and who have the appropriate clearances and permissions. USAID ensures that the practices stated in the E2E, ILMS, and Phoenix Financial Management systems' Privacy Impact Assessment are followed by leveraging standard operating procedures (SOP), training, policies, rules of behavior, and auditing and accountability.

RECORD ACCESS PROCEDURES:

Under the Privacy Act, individuals may request access to records about themselves. These individuals must be limited to citizens of the United States or aliens lawfully admitted for permanent residence. If a federal department or agency, or a person who is not the individual who is the subject of the records, requests access to records about an individual, the written consent of the individual who is the subject of the records is required.

Individuals seeking access to information about themselves contained in this system of records should address inquiries to the Bureau for Management, Office of Management Services, Information and Records Division (M/MS/IRD), USAID Annex—Room 2.4.0C, 1300 Pennsylvania Avenue NW, Washington, DC 20523. The requester may complete and sign a USAID Form 507-1, Certification of Identity Form, or submit signed, written requests that should include the individual's full name, current address, telephone number, and this System of Records Notice number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The USAID rules for accessing records, contesting contents, and appealing initial agency determinations are contained in 22 CFR 212 or may be obtained from the program manager or system owner.

NOTIFICATION PROCEDURES:

Individuals seeking to determine if information about themselves is contained in this system of records should address inquiries to the Bureau for Management, Office of Management Services, Information and Records Division (M/MS/IRD), USAID Annex—Room 2.4.0C, 1300 Pennsylvania Avenue NW, Washington, DC 20523. Individuals may complete and sign a USAID Form 507-1, Certification of Identity Form, or submit signed, written requests that should include the individual's full name, current address, and telephone number. In addition, the requester must provide either a notarized statement or an unsworn declaration made in accordance with 28 U.S.C. 1746, in the following format:

If executed outside the United States: “I declare (or certify, verify, or state) under penalty of perjury under the laws of the United States of America that the foregoing is true and correct. Executed on (date). (Signature). ”

If executed within the United States, its territories, possessions, or commonwealths: “I declare (or certify, verify, or state) under penalty of perjury that the foregoing is true and correct. Executed on (date). (Signature). ”

EXEMPTIONS PROMULGATED FOR THE SYSTEM:

None.

HISTORY:

79 FR 78381, December 30, 2014.

Celida Ann Malone,
Government Privacy Task Lead.

[FR Doc. 2021-27096 Filed 12-14-21; 8:45 am]

BILLING CODE 6116-01-P